DEPARTMENT OF ENERGY

Federal Energy Regulatory Commission

[Docket No. RP03-466-003]

CenterPoint Energy-Mississippi River Transmission Corporation; Notice of Compliance Filing

October 30, 2003.

Take notice that on October 28, 2003, CenterPoint Energy-Mississippi River Transmission Corporation (MRT) tendered for filing as part of its FERC Gas Tariff, Third Revised Volume No. 1, the following substitute revised tariff sheets, to be effective on October 1, 2003:

Substitute Fourth Revised Sheet No. 167A

Seventh Revised Sheet No. 170

Original Sheet No. 170A

MRT states that the purpose of this filing is to comply with the Commission's Letter Order dated October 16, 2003.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the “e-Filing” link.

Magalie R. Salas,
Secretary.

[FR Doc. E3-00177 Filed 11-4-03; 8:45 am]

BILLING CODE 6717-01-P